DEPARTMENT OF ENERGY

Federal Energy Regulatory Commission

Combined Notice of Filings #1

Take notice that the Commission received the following electric corporate filings:

Docket Numbers: EC16-93-000.

Applicants: Atlas Power Finance, LLC, Dynegy Inc., Energy Capital Partners III, LLC, GDF Suez Energy North America, Inc.

Description: Joint Application for Authorization under FPA Section 203 of Atlas Power Finance, LLC, Dynegy Inc., Energy Capital Partners III, LLC, and GDF SUEZ Energy North America, Inc.

Filed Date: 5/24/16.

Accession Number: 20160325-5113.

Comments Due: 5 p.m. ET 4/15/16.

Docket Numbers: EC16-94-000.

Applicants: Dynegy Inc., Energy Capital Partners III, LLC.

Description: Joint Application under FPA Section 203 of Dynegy Inc. and Energy Capital Partners III, LLC.

Filed Date: 5/24/16.

Accession Number: 20160325-5131.

Comments Due: 5 p.m. ET 4/15/16.

Take notice that the Commission received the following electric rate filings:

Docket Numbers: ER16-770-001.

Applicants: Midcontinent Independent System Operator, Inc.

Description: Tariff Amendment: 2016-03-25 ZDB Deficiency Response Filing to be effective 3/25/2016.

Filed Date: 3/25/16.

Accession Number: 20160325-5130.

Comments Due: 5 p.m. ET 4/15/16.

Docket Numbers: ER16-1270-000.

Applicants: PJM Interconnection, L.L.C.

Description: § 205(d) Rate Filing: Original Service Agreement No. 4430; Queue Position #AB1-099 to be effective 2/24/2016.

Filed Date: 3/24/16.

Accession Number: 20160324-5190.

Comments Due: 5 p.m. ET 4/14/16.

Docket Numbers: ER16-1271-000.

Applicants: Midcontinent Independent System Operator, Inc.

Description: § 205(d) Rate Filing: 2016-03-25_SA 2907 ATC-ROCKGEN GIA (J382) to be effective 3/26/2016.

Filed Date: 3/25/16.

Accession Number: 20160325-5051.

Comments Due: 5 p.m. ET 4/15/16.

Docket Numbers: ER16-1272-000.

Applicants: Southern California Edison Company.

Description: § 205(d) Rate Filing: 2016 TACBAA Update to be effective 6/1/2016.

Filed Date: 3/25/16.

Accession Number: 20160325-5082.

Comments Due: 5 p.m. ET 4/15/16.

Docket Numbers: ER16-1273-000.

Applicants: American Electric Power Service Corporation, Michigan Electric Transmission Company, PJM Interconnection, L.L.C.

Description: § 205(d) Rate Filing: AEP submits Original Interconnection Agreement No. 4251 with METC to be effective 3/25/2016.

Filed Date: 3/25/16.

Accession Number: 20160325-5088.

Comments Due: 5 p.m. ET 4/15/16.

Docket Numbers: ER16-1274-000.

Applicants: Verso Androscoggin Power LLC.

Description: Notice of Cancellation of Market-Based Rate Tariff of Verso Androscoggin Power LLC.

Filed Date: 3/25/16.

Accession Number: 20160325-5145.

Comments Due: 5 p.m. ET 4/15/16.

Docket Numbers: ER16-1275-000.

Applicants: Innovative Solar 46, LLC.

Description: Baseline eTariff Filing: Baseline Tariff to be effective 12/31/9998.

Filed Date: 3/25/16.

Accession Number: 20160325-5192.

Comments Due: 5 p.m. ET 4/15/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2016.
Nathaniel J. Davis, Sr.,
Deputy Secretary.

[FR Doc. 2016-07259 Filed 3-30-16; 8:45 am]

BILLING CODE 6717-01-P